NUCLEAR REGULATORY COMMISSION

[Docket No. 40-8681]

International Uranium (USA) Corporation

AGENCY: Nuclear Regulatory Commission.

ACTION: Notice of receipt of request from International Uranium Corporation to amend Source Material License SUA-1358 to receive and process alternate feed materials; Notice of opportunity for hearing

SUMMARY: Notice is herby given that the U.S. Nuclear Regulatory Commission has received, by letter dated March 16, 2000, a request from International Uranium (USA) Corporation (IUC) to amend its NRC Source Material License SUA-1358, to allow their White Mesa Uranium Mill near Blanding, Utah, to receive and process up to 100,000 cubic yards of alternate feed material from the Linde Formerly Utililized Sites Remedial Action Program (FUSRAP) site in Tonawanda, New York.

FOR FURTHER INFORMATION CONTACT: Mr. William von Till, Uranium Recovery and Low-Level Waste Branch, Division of Waste Management, Office of Nuclear Material Safety and Safeguards, U.S. Nuclear Regulatory Commission, Mail Stop T7-J8, Washington, DC 20555. Telephone (301) 415-6251.

SUPPLEMENTARY INFORMATION: By its submittal dated March 16, 2000, IUC requested that the NRC amend Materials License SUA-1358 to allow the receipt and processing of material other than natural uranium ore (i.e., alternate feed material) at its White Mesa uranium mill located near Blanding, Utah. These materials would be used as an “alternate feed material” (i.e., matter that is processed in the mill to remove the uranium but which is different from natural uranium ores, the normal feed material). These sites currently are being remediated by the U.S. Army Corps of Engineers (USACE) under FUSRAP. (See the USACE web site at http://www.lrb.usace.army.mil/fusrap/linde/index.htm for locations, documents, and photographs of the sites).

IUC proposes to receive contaminated materials from the Linde site for processing at its uranium mill. The material consists primarily of moist soils containing byproducts from uranium processing operations (i.e., “tailings”), mixed with other site soils. Uranium, thorium, and radium are its primary radiological constituents. Based on USACE documents, IUC estimates the amount of material for this amendment request to be 70,000 to 100,000 yd ³. Actual amounts removed would be determined based on sampling at the time of excavation. The total amount could also be less than this range because the USACE has selected other contractors to dispose of this material. This application will be reviewed using our formal guidance, “Final Position and Guidance on the Use of Uranium Mill Feed Material Other Than Natural Ores' and the Nuclear Regulatory Commission's Memorandum and Order, International Uranium (USA) Corp., CLI-00-01, (February 10, 2000). The NRC has approved similar amendment requests in the past for separate alternate feed material.

The Linde property is one of four properties that comprise the Tonawanda site. The NRC has already granted license amendments to IUC to process material from two of the other properties within the Tonawanda site, Ashland 1 and Ashland 2, which contained uranium byproduct material originally generated at the Linde property. The primary radioactive contaminants in the soils are Uranium-238 (U-238), Radium-226 (Ra-226), Thorium-230 (Th-230), and their respective decay products. IUC, based on a review of material, states that the weighted average grade of uranium for the Linde site is estimated to be 0.07 percent, with hot spots up to 0.3 percent.

The amendment application is available for public inspection and copying at the NRC Public Document Room, in the Gelman Building, 2120 L Street NW, Washington DC 20555.

Notice of Opportunity for Hearing

The NRC hereby provides notice of an opportunity for a hearing on the license amendment under the provisions of 10 CFR part 2, Subpart L, “Informal Hearing Procedures for Adjudications in Materials and Operator Licensing Proceedings.” Pursuant to § 2.1205(a), any person whose interest may be affected by this proceeding may file a request for a hearing. In accordance with § 2.1205(d), a request for hearing must be filed within 30 days of the publication of this notice in the Federal Register. The request for a hearing must be filed with the Office of the Secretary, either:

(1) By delivery to the Docketing and Service Branch of the Office of the Secretary at One White Flint North, 11555 Rockville Pike, Rockville, MD 20852; or

(2) By mail or telegram addressed to the Secretary, U.S. Nuclear Regulatory Commission, Washington, DC 20555, Attention: Docketing and Service Branch.

In accordance with 10 CFR 2.1205(f), each request for a hearing must also be served, by delivering it personally or by mail, to:

(1) The applicant, International Uranium (USA) Corporation, Independence Plaza, Suite 950, 1050 Seventeenth Street, Denver, Colorado 80265; Attention: Michelle Rehmann; and

(2) The NRC staff, by delivery to the Executive Director for Operations, One White Flint North, 11555 Rockville Pike, Rockville, MD 20852, or by mail addressed to the Executive Director for Operations, U.S. Nuclear Regulatory Commission, Washington, DC 20555.

In addition to meeting other applicable requirements of 10 CFR part 2 of the NRC's regulations, a request for a hearing filed by a person other than an applicant must describe in detail:

(1) The interest of the requestor in the proceeding;

(2) How that interest may be affected by the results of the proceeding, including the reasons why the requestor should be permitted a hearing, with particular reference to the factors set out in § 2.1205(h);

(3) The requestor's areas of concern about the licensing activity that is the subject matter of the proceeding; and

(4) The circumstances establishing that the request for a hearing is timely in accordance with § 2.1205(d).

The request must also set forth the specific aspect or aspects of the subject matter of the proceeding as to which petitioner wishes a hearing.

In addition, members of the public may provide comments on the subject application within 30 days of the publication of this notice in the Federal Register. The comments may be provided to David L. Meyer, Chief, Rules Review and Directives Branch, Division of Freedom of Information and Publications Services, Office of Administration, U.S. Nuclear Regulatory Commission, Washington DC 20555.

Dated at Rockville, Maryland, this 28th day of April 2000.
For the Nuclear Regulatory Commission.
Thomas H. Essig,
Chief, Uranium Recovery and Low-Level Waste Branch, Division of Waste Management, Office of Nuclear Material Safety and Safeguards.

[FR Doc. 00-11242 Filed 5-4-00; 8:45 am]

BILLING CODE 7590-01-P